DEPARTMENT OF ENERGY

Federal Energy Regulatory Commission

[Docket No. RP03-483-002]

Northwest Pipeline Corporation; Notice of Park and Loan Activity Report

August 18, 2004.

Take notice that on August 11, 2004, Northwest Pipeline Corporation (Northwest) tendered for filing a Park and Loan Activity Report.

Northwest states that this report complies with the Commission's order issued June 25, 2003 in Docket No. RP03-483-000 wherein the Commission directed Northwest to file an activity report detailing Northwest's experience with the implementation of park and loan service at the Jackson Prairie storage facility after one full year's operation.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on August 25, 2004.

Linda Mitry,
Acting Secretary.

[FR Doc. E4-1905 Filed 8-24-04; 8:45 am]

BILLING CODE 6717-01-P